DEPARTMENT OF STATE

[Public Notice: 6149]

30-Day Notice of Proposed Information Collection: DS-10, Birth Affidavit, OMB No. 1405-0132

ACTION: Notice of request for public comment and submission to OMB of proposed collection of information.

SUMMARY: The Department of State has submitted the following information collection request to the Office of Management and Budget (OMB) for approval in accordance with the Paperwork Reduction Act of 1995.

• Title of Information Collection: Birth Affidavit.

• OMB Control Number: 1405-0132.

• Type of Request: Revision of a currently approved collection.

• Originating Office: Bureau of Consular Affairs, CA/PPT/FO/FC.

• Form Number: DS-10.

• Respondents: Individuals or Households.

• Estimated Number of Respondents: 154,850.

• Estimated Number of Responses: 154,850.

• Average Hours Per Response: 15 minutes.

• Total Estimated Burden: 38,713 hours.

• Frequency: On occasion.

• Obligation to Respond: Required to obtain or retain a benefit.

DATES: Submit comments to the Office of Management and Budget (OMB) for up to 30 days from March 25, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Steven J. Jelinski, who may be reached at 202-663-2468 or at jelinskis@state.gov.

SUPPLEMENTARY INFORMATION: We are soliciting public comments to enable the Department to do the following:

• Assess whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Birth Affidavit is submitted in conjunction with an application for a U.S. passport and used by Passport Services to collect information for the purpose of establishing the citizenship of a passport applicant who has not submitted an acceptable United States birth certificate with his/her passport application.

Methodology

When needed, a Birth Affidavit is completed at the time a U.S. citizen applies for a U.S. passport.

Dated: March 5, 2008.
Ann Barrett,
Deputy Assistant Secretary, Bureau of Consular Affairs, Department of State.

[FR Doc. E8-6014 Filed 3-24-08; 8:45 am]

BILLING CODE 4710-06-P